DEPARTMENT OF TRANSPORTATION

National Highway Traffic Safety Administration

49 CFR Part 571

[Docket No. NHTSA-2013-0132]

Public Meeting of the U.S.-Canada Regulatory Cooperation Council (RCC) Motor Vehicles Working Group

AGENCY: National Highway Traffic Safety Administration (NHTSA), DOT.

ACTION: Announcement of public meeting.

SUMMARY: The U.S.-Canada Regulatory Cooperation Council (RCC) was created on February 4, 2011. After private sector consultations and bilateral negotiations, the RCC released the Joint Action Plan on Regulatory Cooperation on December 7, 2011. The Joint Action Plan is a practical first step to increased regulatory cooperation between the United States and Canada. In order to implement the initiatives identified in the Joint Action Plan, bilateral working groups led by senior officials from regulatory agencies have developed work plans with concrete objectives, deliverables and milestones for tangible progress within the RCC's two-year mandate. This notice announces a public meeting of the RCC Motor Vehicles Working Group.

DATES: The public meeting will be held on January 14, 2014. The meeting will start at 9:30 a.m. and continue until 4:30 p.m., local time, or until all registered speakers have been heard.

ADDRESSES: The January 14, 2014 public meeting will be held at the Patrick V. McNamara Federal Building, 11th Floor, 477 Michigan Avenue, Detroit, Michigan 48226. The meeting site is accessible to individuals with disabilities.

FOR FURTHER INFORMATION CONTACT: If you would like to attend the public meeting, please contact Lashawn Keeve, NHTSA Office of Rulemaking, by email at lashawn.keeve@dot.gov, by telephone at (202) 366-1740, or by fax at (202) 366-5930. Please contact Ms. Keeve at least ten days before the meeting date of January 14, 2014. Please provide the following information: name, affiliation, address, email address, and telephone number. For other questions regarding the RCC Motor Vehicles Working Group, in the United States, you may contact Mr. Ezana Wondimneh, Chief of the NHTSA International Harmonization Division, by email at ezana.wondimneh@dot.gov, by telephone at (202) 366-0846, or by fax at (202) 366-5930. In Canada you may contact Mr. Merz Rustom, Director, Motor Vehicle Standards, Research and Development at Transport Canada, by email at merz.rustom@tc.gc.ca, by telephone at (613) 998-2268, or by fax at (613) 990-2913.

SUPPLEMENTARY INFORMATION: The U.S.-Canada Regulatory Cooperation Council (RCC) was created on February 4, 2011. After private sector consultations and bilateral negotiations, the RCC released the Joint Action Plan on Regulatory Cooperation on December 7, 2011. For more information on the Joint Action Plan on Regulatory Cooperation, see http://www.trade.gov/rcc/rcc-summary.asp. The Joint Action Plan is a practical first step to increased regulatory cooperation between the United States and Canada. In order to implement the initiatives identified in the Joint Action Plan, bilateral working groups led by senior officials from regulatory agencies have developed work plans with concrete objectives, deliverables and milestones for tangible progress within the RCC's two-year mandate.

The January 14, 2014 public meeting is being held pursuant to the RCC Motor Vehicles Working Group Work Plan. For more information on the Work Plans, see http://www.trade.gov/rcc/documents/Existing-Motor-Vehicle-Safety-Standards.pdf, or http://www.trade.gov/rcc/ for future Work Plans.

Public Meeting Procedures. The public meeting provides a forum for the public to speak about topics within the mandate of the RCC Motor Vehicles Working Group. In order to comply with the occupancy limits of the meeting space, attendance is limited to 100 persons, and preregistration is required. For space reasons, it is asked that you consider limiting your company's or association's delegation to 3-5 persons. If you would like to attend the public meeting as a speaker or as an observer, please contact the person identified under FOR FURTHER INFORMATION CONTACT at least ten days before the hearing. Depending on the available space, registration for persons attending the public hearing as observers may be accepted after that date.

For planning purposes, each speaker should anticipate speaking for approximately ten minutes, although we may need to shorten that time if a large number of people wish to make presentations. Once we learn how many people have registered to speak at the meeting, we will allocate an appropriate amount of time to each participant, allowing time for necessary breaks. In addition, we will reserve a block of time for anyone else in the audience who wishes to give an oral presentation.

We request that you bring three copies of your statement or other material to the meeting. To accommodate as many speakers as possible, we prefer that speakers not use any audio-visual aids or computer slideshows; however, if you plan to use such aids, you must provide those materials in advance of the meeting and notify the contact person in the FOR FURTHER INFORMATION CONTACT section above.

NHTSA and Transport Canada will conduct the meeting informally. Presenters wishing to provide supplementary information should submit it to the contact person in the FOR FURTHER INFORMATION CONTACT section above.

For security purposes, government-issued photo identification is required to enter the Patrick V. McNamara Federal Building. Non-U.S. citizens may be required to show passports. To allow sufficient time to clear security and enter the building, NHTSA recommends that participants arrive 30 to 60 minutes prior to the start of the event, and that luggage, laptop computers, and personal effects be kept to a minimum.

David Hines,
Director, Office of Crash Avoidance Standards.

[FR Doc. 2013-31507 Filed 1-3-14; 8:45 am]

BILLING CODE 4910-59-P